ENVIRONMENTAL PROTECTION AGENCY

40 CFR Part 52

[EPA-R01-OAR-2021-0042; FRL-10024-87-Region 1]

Air Plan Approval; Connecticut; Definitions of Emergency and Emergency Engine

AGENCY: Environmental Protection Agency (EPA).

ACTION: Final rule.

SUMMARY: The Environmental Protection Agency (EPA) is approving a State Implementation Plan (SIP) revision submitted by the State of Connecticut on December 20, 2019. This revision amends the State's definitions of emergency and emergency engine in its air quality regulations. The intended effect of this action is to approve the December 20, 2019, submittal into the Connecticut SIP. This action is being taken in accordance with the Clean Air Act.

DATES: This rule is effective on August 13, 2021.

ADDRESSES: EPA has established a docket for this action under Docket Identification No. EPA-R01-OAR-2021-0042. All documents in the docket are listed on the https://www.regulations.gov website. Although listed in the index, some information is not publicly available, i.e., confidential business information (CBI) or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that, if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: John Creilson, Air Quality Branch, U.S. Environmental Protection Agency, EPA Region 1, 5 Post Office Square—Suite 100, (Mail code 05-2), Boston, MA 02109, tel. (617) 918-1688, email creilson.john@epa.gov.

SUPPLEMENTARY INFORMATION: Throughout this document whenever “we,” “us,” or “our” is used, we mean EPA.

Table of Contents

I. Background and Purpose

II. Final Action

III. Incorporation by Reference

IV. Statutory and Executive Order Reviews

I. Background and Purpose

On March 15, 2021 (86 FR 14299), EPA published a Notice of Proposed Rulemaking (NPRM) for the State of Connecticut.

The NPRM proposed approval of Connecticut's SIP revision, which replaced two definitions within the previously approved Regulations of Connecticut State Agencies (RCSA) Section 22a-174-22e, Control of NOx Emissions from Fuel-burning Equipment at Major Stationary Sources of NOX. The revision proposed to add to the State's SIP a recent amendment to 22a-174-22e concerning the definitions of “emergency” and “emergency engine,” which became effective as a state requirement on October 8, 2019. Additionally, two compliance options were removed from RCSA section 22a-174-22e(g) in light of the revised definitions for emergency and emergency engine.

The formal SIP revision was submitted by Connecticut on December 20, 2019. The rationale for EPA's proposed action is explained in the NPRM and will not be restated here. There were no public comments received on the NPRM.

II. Final Action

EPA is approving Connecticut's December 20, 2019 SIP revision request pertaining to its definitions for emergency and emergency engine and the removal of compliance options affected by the revised definitions.

III. Incorporation by Reference

In this rule, the EPA is finalizing regulatory text that includes incorporation by reference. In accordance with requirements of 1 CFR 51.5, the EPA is finalizing the incorporation by reference of the definitions for emergency and emergency engines and the removal of compliance options affected by the revised definitions described in the amendments to 40 CFR part 52 set forth below. The EPA has made, and will continue to make, these documents generally available through and at the EPA Region 1 Office (please contact the person identified in the FOR FURTHER INFORMATION CONTACT section of this preamble for more information). https://www.regulations.gov and at the EPA Region 1 Office (please contact the person identified in the FOR FURTHER INFORMATION CONTACT section of this preamble for more information).

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Nitrogen dioxide, Ozone.

Dated: July 8, 2021.
Deborah Szaro,
Acting Regional Administrator, EPA Region 1.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart H—Connecticut

2. Section 52.370 is amended by adding paragraph (c)(125) to read as follows:

§ 52.370 Identification of plan.

* * * * *

(c) * * *

(125) Revisions to the State Implementation Plan submitted by the Connecticut Department of Environmental Protection on December 20, 2019.

(i) Incorporation by reference. (A) Regulations of Connecticut State Agencies Section 22a-174-22e, entitled “Control of nitrogen oxide emissions from fuel-burning equipment at major stationary sources of nitrogen oxides,” as amended October 8, 2019, as follows:

(1) 22a-174-22e (a), Definitions; (12) “emergency” and (13) “emergency engine.”

(2) 22a-174-22e (g), Compliance options; (4) and (6).

3. In § 52.385, Table 52.385 is amended by adding two entries in state citations for “22a-174-22e” between existing entries for “22a-174-22e: Control of nitrogen oxides . . .” and “22a-174-22f” to read as follows:

§ 52.385 - EPA-approved Connecticut regulations.

* * * * *

Table 52.385—EPA-Approved Regulations
Connecticut State citation | Title/subject | Dates: Date adopted by State | Dates: Date approved by EPA | Federal Register citation | Section 52.370 | Comments/description
* * * * * * *
22a-174-22e | Definitions | 10/8/19 | 7/14/2021 | [Insert Federal Register citation] | [Insert next available paragraph number in sequence] | Definitions revised for “emergency” and “emergency engine.”
22a-174-22e | Compliance options | 10/8/19 | 7/14/2021 | [Insert Federal Register citation] | [Insert next available paragraph number in sequence] | Approve subsection (g)(4) and (g)(6): Two compliance options relating to ISO-New England OP-4 removed.
* * * * * * *

[FR Doc. 2021-14828 Filed 7-13-21; 8:45 am]

BILLING CODE 6560-50-P